ENVIRONMENTAL PROTECTION AGENCY

[EPA-HQ-OPP-2014-0686; FRL-9917-08]

Spatial Aquatic Model Development; Notice of Public Meeting

AGENCY: Environmental Protection Agency (EPA).

ACTION: Notice.

SUMMARY: A simultaneous workshop and webinar on a regional test version of the Spatial Aquatic Model (SAM) will be held on October 29, 2014. This Notice announces the location and time for the meeting and provides a tentative list of topics to be covered in the meeting. With the development of SAM, EPA will be able to determine the magnitude, length, and duration of exposure to a chemical as well as where the exposure may occur.

DATES: The meeting will be held on October 29, 2014 from 8:30 a.m. to 1 p.m. Requests to participate in the meeting must be received on or before October 20, 2014.

To request accommodation of a disability, please contact the person listed under FOR FURTHER INFORMATON CONTACT, preferably at least 10 days prior to the meeting, to give EPA as much time as possible to process your request.

ADDRESSES: The meeting will be held at the Environmental Protection Agency, Office of Pesticide Programs (OPP), One Potomac Yard (South Building), Fourth Floor Conference Room N4830, 2777 S. Crystal Drive, Arlington, VA 22202.

FOR FURTHER INFORMATION CONTACT: Nelson Thurman or Derek Scott, Environmental Fate and Effects Division, Office of Pesticide Programs, Environmental Protection Agency, 1200 Pennsylvania Ave. NW., Washington, DC 20460-0001; telephone numbers: (703) 308-0465 or (703) 305-6627; fax number: 703-347-8011; email address: thurman.nelson@epa.gov. or scott.derek@epa.gov.

SUPPLEMENTARY INFORMATION:

I. General Information

A. Does this action apply to me?

You may be potentially affected by this action if you are required to conduct testing of chemical substances under the Toxic Substances Control Act (TSCA), the Federal Food, Drug, and Cosmetic Act (FFDCA), or the Federal Insecticide, Fungicide, and Rodenticide Act (FIFRA). Since other entities may also be interested, the Agency has not attempted to describe all the specific entities that may be affected by this action. The following list of North American Industrial Classification System (NAICS) codes is not intended to be exhaustive, but rather provides a guide to help readers determine whether this document applies to them. Potentially affected entities may include:

• Agriculture, Forestry, Fishing and Hunting NAICS code 11

• Utilities NAICS code 22

• Professional, Scientific and Technical NAICS code 54

B. How can I get copies of this document and other related information?

The docket for this action, identified by docket identification (ID) number EPA-HQ-OPP-2014-0686, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA is developing a Spatial Aquatic Model (SAM) to address the need for more spatial and temporal contexts for pesticide aquatic exposure assessments. The model will provide a way to estimate how often, how long, and where adverse impacts overlap spatially with populations at risk. EPA plans to introduce an alpha test version of SAM at the workshop/Webinar to allow interested parties to evaluate and comment on the model.

III. How can I request to participate in this meeting?

You may submit a request to participate in this meeting to the person listed under FOR FURTHER INFORMATION CONTACT. Do not submit any information in your request that is considered CBI. Requests to participate in the meeting, identified by docket ID number EPA-HQ-OPP-2014-0686, must be received on or before 10 days after date of publication in the Federal Register.

IV. Tentative Topics for the Meeting

The workshop/Webinar will provide an overview of the Spatial Aquatic Model, a description of the model and data components, contrasts with current OPP aquatic exposure models, and preliminary evaluations of model performance. The workshop will include a hands-on demonstration of the test model so that participants will be able to evaluate/test the model and provide feedback that can be used to update and improve the model. Participants will have an opportunity to provide comments to the Agency and participate in a follow-up Webinar in January 2015.

Authority: 7 U.S.C. 136 et. seq.; 15 U.S.C. 2601 et. seq.; 21 U.S.C. 321(q), 346a, and 371.

Dated: October 2, 2014.
Derek Scott,
Acting Director Environmental Fate and Effects Division, Office of Pesticide Programs.

[FR Doc. 2014-24026 Filed 10-7-14; 8:45 am]

BILLING CODE 6560-50-P